FEDERAL RESERVE SYSTEM

Formations of, Acquisitions by, and Mergers of Bank Holding Companies; Correction

This notice corrects a notice (FR Doc. E9-1697) published on pages 4746 and 4747 of the issue for Tuesday, January 27, 2009.

Under the Federal Reserve Bank of Atlanta heading, the entry for David Weir Wood, II, Laura Halsey Wood, John Halsey Wood, David Weir Wood, II, Sidney Wood Clap, Katherine Wood Hamilton, all of Birmingham, Alabama, and Susan Soule Wood, Pensacola, Florida, is revised to read as follows:

A. Federal Reserve Bank of Atlanta (Steve Foley, Vice President) 1000 Peachtree Street, N.E., Atlanta, Georgia 30309:

1. David Weir Wood, II, Laura Halsey Wood, John Halsey Wood, David Weir Wood, II, Sidney Wood Clap, Katherine Wood Hamilton, all of Birmingham, Alabama, and Susan Wood Soule, Pensacola, Florida; to acquire additional shares of Capital South Bancorp, and its subsidiary CapitalSouth Bank, both of Birmingham, Alabama.

Comments on this application must be received by February 9, 2009.

Board of Governors of the Federal Reserve System, January 27, 2009.
Robert deV. Frierson,
Deputy Secretary of the Board.

[FR Doc. E9-2014 Filed 1-29-09 8:45 am]

BILLING CODE 6210-01-S